FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
12918N | Freight Options Unlimited, 14247 East Don Julian Road, City of Industry, CA 91746 | April 21, 2002.
3574F | I.T.N. of Miami, Inc., dba International Transportation Network, 7007 NW 30th Street, Miami, FL 33122 | May 25, 2002.
16051N | Trans-Net, Inc., dba Trans-Net, 710 5th Avenue, NW., Issaquah, WA 98027 | June 19, 2002.

Sandra L. Kusumoto,
Director, Bureau of Consumer Complaints and Licensing.

[FR Doc. 02-31224 Filed 12-10-02; 8:45 am]

BILLING CODE 6730-01-P